DEPARTMENT OF COMMERCE

National Oceanic and Atmospheric Administration

Agency Information Collection Activities; Submission to the Office of Management and Budget (OMB) for Review and Approval; Comment Request; NWS Fire Weather Social and Behavioral Sciences Research

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on Feb. 15, 2024 during a 60-day comment period. This notice allows for an additional 30 days for public comments.

Agency: National Oceanic & Atmospheric Administration (NOAA), Commerce.

Title: NWS Fire Weather Social and Behavioral Sciences Research.

OMB Control Number: 0648-XXXX.

Form Number(s): None.

Type of Request: Regular (New information collection).

Number of Respondents: 2,140.

Average Hours Per Response: Survey: 15 minutes; Focus Groups: 2 hours.

Total Annual Burden Hours: 605 hours.

Needs and Uses: This is a request for a new collection of information.

The data collection is sponsored by DOC/NOAA/National Weather Service (NWS)/Analyze, Forecast, and Support Office (AFS), National Fire Weather Program. Under the Disaster Relief Supplemental Appropriations Act of 2022, Congress charged NOAA/NWS to improve (a) Hurricane intensity and track forecasting, including through deployment of unmanned ocean observing platforms and enhanced data assimilation; (B) precipitation and flood prediction, forecasting, and mitigation capabilities; and (C) wildfire research, prediction, detection, forecasting, monitoring, data management, and communication and engagement. Based on this directive, the NWS is conducting this project to improve decision support services for fire weather products and services. By using social science methods and risk communication expertise, the NWS seeks to identify how probabilistic weather information can most effectively influence fire-related decision-making to protect lives and property and enhance the economy. This data collection will include an on-line survey and virtual focus groups. The survey sample will be a non-representative panel that will draw primarily from the Western, Southern Plains, and Southeastern portions of the United States. The focus groups will be conducted with Public Information Officers and Fire Weather Practitioners at the national, regional, state, and local levels based on contacts known to the NWS. The insights and findings derived from this data collection will be used to develop Impact Decision Support Services' products and messages.

This is a new data collection and currently there are no changes to the collection.

Affected Public: Individuals, State, Local, or Tribal government.

Frequency: One-time collection.

Respondent's Obligation: Voluntary.

Legal Authority: Disaster Relief Supplemental Appropriations Act of 2022.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2024-11660 Filed 5-24-24; 8:45 am]

BILLING CODE 3510-KE-P